DEPARTMENT OF STATE

[Public Notice: 9240]

In the Matter of the Designation of Sajid Mohammad Badat as a Specially Designated Global Terrorist Pursuant Section 1(b) of Executive Order 13224, as Amended

In accordance with section 1(b) of Executive Order 13224 of September 23, 2001, as amended (“the Order”), I hereby determine that the individual known as Sajid Mohammad Badat, also known as other aliases and transliterations, no longer meets the criteria for designation under the Order, and therefore I hereby revoke the designation of the aforementioned individual as a Specially Designated Global Terrorist pursuant to section 1(b) of the Order.

This determination shall be published in the Federal Register.

Dated: August 3, 2015.
John F. Kerry,
Secretary of State.

[FR Doc. 2015-21162 Filed 8-25-15; 8:45 am]

BILLING CODE 4710-AD-P